DEPARTMENT OF AGRICULTURE

Submission for OMB Review; Reinstatement Comment Request

The Department of Agriculture will submit the following information collection requirement(s) to OMB for review and reinstatement under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by July 14, 2023. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service

Title: Irrigation and Water Management Survey (IWMS).

OMB Control Number: 0535-0234.

Summary of Collection: The 2023 Irrigation and Water Management Survey will mark 44 years of irrigation data collected on water management practices and water uses in American agriculture. Irrigation surveys have been conducted since 1974 as supplements to the quinquennial Censuses of Agriculture. This survey, supplementing basic irrigation data collected in the census, is conducted on a sample basis; the survey can provide comprehensive analyses of irrigation, production, and operator information with less respondent burden and cost than if this information were gathered as part of a census collection. The 2023 Irrigation and Water Management Survey will obtain data describing the irrigation activities of U.S. farm operations. Some of these activities are of current National interest, such as the chemigation, fertigation, and water-conserving uses and practices of irrigators. The 2023 Irrigation and Water Management Survey will play an important part in providing critically needed data to address these types of issues. The Irrigation Survey is an integral part of the 2022 Census of Agriculture and is conducted every five years under the authority of the Census of Agriculture Act of 1997 (Pub. L. 105-113) where participation is mandatory. This law requires the Secretary of Agriculture to conduct a census of agriculture in 2002 and every fifth year thereafter (prior to 1997 the census was conducted by the Department of Commerce).

Need and Use of the Information: The primary purpose of this survey is to provide detail data relating to on-farm irrigation activities for use in preparing a wide variety of water-related local programs, economic models, legislative initiatives, market analyses, and feasibility studies. The Irrigation and Water Management Survey data are the only data that are complete, consistent, and accurate enough to be used for bench-marking on-farm irrigation measures over time. The absence of the Irrigation and Water Management Survey data would certainly affect irrigation policy decisions. Federal programs, legislation, and impact studies would instead be subject to greater uncertainty and error.

Description of Respondents: Farms; business or other for-profit.

Number of Respondents: 35,100.

Frequency of Responses: Reporting: once.

Total Burden Hours: 26,974.

Levi S. Harrell,
Departmental Information Collection Clearance Officer.

[FR Doc. 2023-12667 Filed 6-13-23; 8:45 am]

BILLING CODE 3410-20-P